DEPARTMENT OF HEALTH AND HUMAN SERVICES

Indian Health Service

42 CFR Part 137

Change of Address for the Interior Board of Indian Appeals

AGENCY: Indian Health Service, Health and Human Services.

ACTION: Final rule.

SUMMARY: The Department of Health and Human Services (HHS or the Department) is revising its regulations governing administrative appeals to reflect a change of address for the Interior Board of Indian Appeals (IBIA). The IBIA moved to a new address at 801 North Quincy St., Suite 300, Arlington, VA 22203 effective February 11, 2002.

DATES: This rule is effective October 23, 2015.

FOR FURTHER INFORMATION CONTACT: Carl Mitchell, Acting Director, Division of Regulatory Affairs, Indian Health Service, 801 Thompson Avenue, Rockville, Maryland 20852, Telephone: (301) 443-1116.

SUPPLEMENTARY INFORMATION:

I. Background

Through a two-person panel of administrative judges, the Interior Board of Indian Appeals (IBIA) has the authority to consider appeals from decisions of agency officials and administrative law judges in cases under the Indian Self-Determination and Education Assistance Act (ISDEAA). Located within the Department of Interior's Office of Hearings and Appeals (OHA), IBIA is separate and independent from the Bureau of Indian Affairs (BIA) and the Assistant Secretary—Indian Affairs.

Effective February 11, 2002, the IBIA was relocated to 801 North Quincy Street, Arlington, Virginia. To avoid confusion with appeals, HHS is updating its administrative appeals regulations to reflect the IBIA's new street address.

II. Procedural Requirements

A. Determination To Issue Final Rule Effective in Less Than 30 Days

The Department has determined that the public notice and comment provisions of the Administrative Procedure Act, 5 U.S.C. 553(b), do not apply to this rulemaking because the changes being made relate solely to matters of agency organization, procedure, and practice. It, therefore, satisfies the exemption from notice and comment rulemaking in 5 U.S.C. 553(b)(A).

Moreover, the Department has determined that there is good cause to waive the requirement of publication 30 days in advance of the rule's effective date under 5 U.S.C. 553(d). The error in the IBIA's location could cause misdirection of appeals. Thus, if the changes in this rule were to become effective 30 days after publication, it could cause further delays in processing appeals. Because an earlier effective date benefits the public, there is good cause for making this rule effective in less than 30 days, as permitted by 5 U.S.C. 553(d)(3).

B. Review Under Procedural Statutes and Executive Orders

The Department has reviewed this rule under the following statutes and executive orders governing rulemaking procedures: The Unfunded Mandates Reform Act of 1995, 2 U.S.C. 1501 et seq.; the Regulatory Flexibility Act, 5 U.S.C. 601 et seq.; the Small Business Regulatory Enforcement Fairness Act of 1996, 5 U.S.C. 801 et seq.; the Paperwork Reduction Act, 44 U.S.C. 3501 et seq.; the National Environmental Policy Act of 1969, 42 U.S.C. 4321 et seq.; Executive Order 12630 (Takings); Executive Order 12866 (Regulatory Planning and Review); Executive Order 12988 (Civil Justice Reform); Executive Order 13132 (Federalism); Executive Order 13175 (Tribal Consultation); and Executive Order 13211 (Energy Impacts). The Department has determined that this rule does not trigger any of the procedural requirements of those statutes and executive orders, since this rule merely changes the street address for the IBIA.

Dated: August 17, 2015.
Robert G. McSwain,
Deputy Director, Indian Health Service.
Approved: October 9, 2015.
Sylvia M. Burwell,
Secretary, Health and Human Services.

For the reasons set forth in the preamble, the Department, through the Indian Health Service amends subpart P of title 42 of the Code of Federal Regulations part 137 to read as follows:

PART 137 [AMENDED]

1. The authority citation for part 137 continues to read as follows:

Authority: 25 U.S.C. 458 et seq.

§ 137.418 [Amended]

2. In § 137.418, revise “4015 Wilson Boulevard, Arlington, VA 22203” to read “801 North Quincy St., Suite 300, Arlington, VA 22203”.

§ 137.423 [Amended]

3. In § 137.423, revise “4015 Wilson Boulevard, Arlington, VA 22203” to read “801 North Quincy St., Suite 300, Arlington, VA 22203”.

§ 137.425 [Amended]

4. In § 137.425, in paragraph (b), revise “4015 Wilson Boulevard, Arlington, VA 22203” to read “801 North Quincy St., Suite 300, Arlington, VA 22203”.

§ 137.440 [Amended]

5. In § 137.440, in paragraph (b), revise “4015 Wilson Boulevard, Arlington, VA 22203” to read “801 North Quincy St., Suite 300, Arlington, VA 22203”.

[FR Doc. 2015-27025 Filed 10-22-15; 8:45 am]

BILLING CODE 4165-16-P